DEPARTMENT OF HOMELAND SECURITY

Bureau of Customs and Border Protection

19 CFR Part 101

[Docket No. USCBP-2008-0047]

Extension of Port Limits of Columbus, OH

AGENCY: Customs and Border Protection, DHS.

ACTION: Notice of proposed rulemaking.

SUMMARY: This notice of proposed rulemaking proposes to extend the geographical limits of the port of Columbus, Ohio, to include the Rickenbacker Intermodal Terminal and additional territory that likely will be needed for supporting infrastructure so that it will be within the newly defined port limits. The proposed change would make the boundaries more easily identifiable to the public. The proposed change is part of CBP's continuing program to more efficiently utilize its personnel, facilities, and resources, and to provide better service to carriers, importers, and the general public.

DATES: Comments must be received on or before July 17, 2009.

ADDRESSES: You may submit comments, identified by docket number, by one of the following methods:

• Federal eRulemaking Portal: http://www.regulations.gov. Follow the instructions for submitting comments via docket number USCBP-2008-0047.

• Mail: Border Security Regulations Branch, Office of International Trade, Customs and Border Protection, 1300 Pennsylvania Avenue, NW. (Mint Annex), Washington, DC 20229.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may also be inspected on regular business days between the hours of 9 a.m. and 4:30 p.m. at the Office of International Trade, Customs and Border Protection, 799 9th Street, NW., 5th Floor, Washington, DC. Arrangements to inspect submitted comments should be made in advance by calling Mr. Joseph Clark at (202) 325-0118.

FOR FURTHER INFORMATION CONTACT: Wendy M. Cooper, Office of Field Operations, 202-344-2057.

SUPPLEMENTARY INFORMATION:

I. Public Participation

Interested persons are invited to participate in this rulemaking by submitting written data, views, or arguments on all aspects of the notice of proposed rulemaking. DHS also invites comments that relate to the economic, environmental, or federalism effects that might result from this proposal. Comments that will provide the most assistance to the Department in developing these procedures will reference a specific portion of the proposal, explain the reason for any recommended change, and include data, information, or authority that support such recommended change.

II. Background

As part of its continuing efforts to provide better service to carriers, importers, and the general public, CBP is proposing to extend the port boundaries for the port of entry at Columbus, Ohio.

The Columbus Regional Airport Authority has partnered with the Norfolk Southern Corporation to create an intermodal facility immediately adjacent to Rickenbacker International Airport. The creation of the new Rickenbacker Intermodal Terminal is an important part of the Columbus Regional Airport Authority's plan to address a capacity problem at current facilities in the area. The terminal is located to the south of the current port boundaries. In order to accommodate the new facility and the necessary additional territory for supporting infrastructure so that it falls within the newly defined port limits, CBP is proposing to amend the port limits of the port of Columbus, Ohio. This proposed change will make the port boundaries more easily identifiable to the public. CBP has determined that this proposed change will result in better service that is provided to the public by the port by addressing a capacity problem at current facilities in the area. The proposed change will not require a change in the staffing or workload at the port.

III. Current Port Limits of Columbus, Ohio

The current port limits of Columbus, Ohio, are contained in two separate Treasury Decisions: 82-9 and 96-67.

Treasury Decision (T.D.) 82-9, published in the Federal Register (47 FR 1286) on January 12, 1982, specified the limits as follows:

The geographical boundaries of the Columbus, Ohio, Customs port of entry include all of the territory within the corporate limits of Columbus, Ohio; all of the territory completely surrounded by the city of Columbus; and, all of the territory enclosed by Interstate Highway 270 (outer belt), which completely surrounds the city.

T.D. 96-67, published in the Federal Register (61 FR 49058) on September 18, 1996, expanded the port limits of Columbus, Ohio, to encompass the port limits set forth in T.D. 82-9 as well as the following territory:

Beginning at the intersection of Rohr and Lockbourne Roads, then proceeding southerly along Lockbourne Road to Commerce Street, thence easterly along Commerce Street to its intersection with the N & W railroad tracks, then southerly along the N & W railroad tracks to the Franklin-Pickaway County line, thence easterly along the Franklin-Pickaway County line to its intersection with Pontius Road, then northerly along Pontius Road to its intersection with Rohr Road, thence westerly along Rohr Road to its intersection with Lockbourne Road, the point of beginning, all within the County of Franklin, State of Ohio.

IV. Proposed Port Limits of Columbus, Ohio

The new port limits of Columbus, Ohio, are proposed as follows:

The geographic boundaries of the Columbus, Ohio, port of entry include all of Franklin County, and that part of Pickaway County east of U.S. Route 23 and north of State Route 752, all in the State of Ohio.

V. Proposed Amendment to the Regulations

If the proposed port limits are adopted, CBP will amend the list of CBP ports of entry at 19 CFR 101.3(b)(1), to reflect the new description of the limits of the Columbus, Ohio, port of entry.

V. Authority

This change is proposed under the authority of 5 U.S.C. 301 and 19 U.S.C. 2, 66 and 1624, and the Homeland Security Act of 2002, Public Law 107-296 (November 25, 2002).

VI. Signing Authority

The signing authority for this document falls under 19 CFR 0.2(a) because this port extension is not within the bounds of those regulations for which the Secretary of the Treasury has retained sole authority. Accordingly, the notice of proposed rulemaking may be signed by the Secretary of Homeland Security (or his or her delegate).

VII. Statutory and Regulatory Reviews.

A. Executive Order 12866: Regulatory Planning and Review

This proposed rule is not considered to be an economically significant regulatory action under Executive Order 12866 because it will not result in the expenditure of over $100 million in any one year. The proposed change is intended to expand the geographical boundaries of the Port of Columbus, Ohio, and make it more easily identifiable to the public. There are no new costs to the public associated with this rule. Accordingly, this proposed rule has not been reviewed by the Office of Management and Budget (OMB) under Executive Order 12866.

B. Regulatory Flexibility Act

The Regulatory Flexibility Act (5 U.S.C. 601 et seq.) requires federal agencies to examine the impact a rule would have on small entities. A small entity may be a small business (defined as any independently owned and operated business not dominant in its field that qualifies as a small business per the Small Business Act), a small not-for-profit organization, or a small governmental jurisdiction (locality with fewer than 50,000 people).

This proposed rule does not directly regulate small entities. The proposed change is part of CBP's continuing program to more efficiently utilize its personnel, facilities, and resources, and to provide better service to carriers, importers, and the general public. To the extent that all entities are able to more efficiently or conveniently access the facilities and resources within the proposed expanded geographical area of the new port limits, this proposed rule, if finalized, should confer benefits to CBP, carriers, importers, and the general public.

Because this rule does not directly regulate small entities, we do not believe that this rule has a significant economic impact on a substantial number of small entities. However, we welcome comments on that assumption. The most helpful comments are those that can give us specific information or examples of a direct impact on small entities. If we do not receive comments that demonstrate that the rule causes small entities to incur direct costs, we may certify that this action does not have a significant economic impact on a substantial number of small entities during the final rule.

Dated: May 12, 2009.
Janet Napolitano,
Secretary.

[FR Doc. E9-11551 Filed 5-15-09; 8:45 am]

BILLING CODE 9111-14-P